DEPARTMENT OF AGRICULTURE

Rural Business-Cooperative Service

7 CFR Part 4274

[Docket No. RBS-20-BUSINESS-0032]

RIN 0570-AA99

Intermediary Relending Program; Correction

AGENCY: Rural Business-Cooperative Service, Department of Agriculture (USDA).

ACTION: Final rule; correcting amendment.

SUMMARY: On December 21, 2021, Rural Development's Rural Business-Cooperative Service (hereinafter referred to as “the Agency”) published a document that completed a revision to the Intermediary Relending Program (IRP) regulations to streamline process, provide clarity on the daily administration of the program, and incorporate program updates. Following the final implementation of the final rule, the Agency found that a correction due to an error, is necessary. This document corrects the final rule.

DATES: Effective April 1, 2022.

FOR FURTHER INFORMATION CONTACT: For information specific to this notice contact Michele Brooks, Director, Regulations Management, Rural Development Innovation Center—Regulations Management, USDA, 1400 Independence Avenue SW, STOP 1522, Room 4266, South Building, Washington, DC 20250-1522. Telephone: (202) 690-1078. Email michele.brooks@usda.gov.

SUPPLEMENTARY INFORMATION: The Rural Business-Cooperative Service is issuing a correction to the final rule that published December 21, 2021, at 86 FR 72151. In that rule, an inadvertent error provided an incorrect section reference in § 4274.333(b)(4)(iii). This correcting amendment provides the proper information.

List of Subjects in 7 CFR Part 4274

Community development, Loan programs-business, Reporting and recordkeeping requirements, Rural areas.

For the reasons stated in the preamble, the Rural Business-Cooperative Service corrects 7 CFR part 4274 with the following correcting amendment:

PART 4274—DIRECT AND INSURED LOANMAKING

1. The authority citation for part 4274 continues to read as follows:

Authority: 5 U.S.C. 301; 7 U.S.C. 1932 note; 7 U.S.C. 1989.

2. Amend § 4274.333 by revising (b)(4)(iii) to read as follows:

§ 4274.333 Loan agreements between the Agency and the intermediary.

* * * * *

(b) * * *

(4) * * *

(iii) Annual proposed budget for the following year that meets the requirements of § 4274.332(b)(2); and

* * * * *

Karama Neal,
Administrator, Rural Business-Cooperative Service, U.S. Department of Agriculture.

[FR Doc. 2022-06830 Filed 3-31-22; 8:45 am]

BILLING CODE 3410-XY-P